DEPARTMENT OF TRANSPORTATION

Federal Aviation Administration

14 CFR Part 71

[Docket No. FAA-2008-1334; Airspace Docket No. 08-ASO-21]

Amendment of Class E Airspace; Roanoke Rapids, NC

AGENCY: Federal Aviation Administration (FAA), DOT.

ACTION: Final rule.

SUMMARY: This action amends Class E Airspace at Roanoke Rapids, NC, to accommodate Standard Instrument Approach Procedures (SIAPs) at Halifax County Airport. The controlled airspace previously associated with this airport was removed in anticipation of the airport's scheduled closure. The closure of Halifax County Airport has been delayed because the opening of its replacement, Halifax-Northampton Regional Airport, has been delayed. Controlled airspace is necessary for the safety and management of SIAPs and for Instrument Flight Rule (IFR) operations to the airport.

DATES: Effective: 0901 UTC, February 26, 2009. The Director of the Federal Register approves this incorporation by reference action under title 1, Code of Federal Regulations, part 51, subject to the annual revision of FAA Order 7400.9 and publication of conforming amendments.

FOR FURTHER INFORMATION CONTACT: Daryl Daniels, System Support Group, Eastern Service Center, Federal Aviation Administration, P.O. Box 20636, Atlanta, Georgia 30320; telephone (404) 305-5581.

SUPPLEMENTARY INFORMATION:

History

On July 18, 2008, the FAA published a final rule in the Federal Register removing Class E airspace at Halifax County Airport, Roanoke Rapids, NC, and establishing Class E airspace at the new Halifax-Northampton Regional Airport (73 FR 41255). The FAA has learned that the effective date was premature causing the removal of controlled airspace that is needed to support IFR operations at Halifax County Airport. This action restores that controlled Class E airspace required for IFR operations at Halifax County Airport. The Class E airspace that was established for the Halifax-Northampton Regional Airport remains in effect, although the airport is not expected to become operational until around March 12, 2009. Designations for Class E airspace areas extending upward from 700 feet or more above the surface of the earth are published in FAA Order 7400.9S, signed October 3, 2008, and effective October 31, 2008, which is incorporated by reference in 14 CFR part 71.1. The Class E designations listed in this document will be published subsequently in the Order.

In consideration of the need to provide and resume immediate IFR operations at Halifax County Airport until its closure, to avoid confusion on the part of the pilots because of the dates of Chart publications in the vicinity of Roanoke Rapids, NC, and to be consistent with the FAA's safety mandate when an unsafe condition exists, the FAA finds that notice and public procedure under 5 U.S.C. 553(b) are impracticable and contrary to the public interest, and finds good cause pursuant to 5 U.S.C. 553(d), for making this imperative amendment effective in less than 30 days to promote the safe and efficient handling of air traffic in the area.

The Rule

This amendment to Title 14, Code of Federal Regulations (14 CFR) part 71 amends Class E airspace at Roanoke Rapids, NC, to provide additional controlled airspace required to support the SIAPs for Halifax County Airport, Roanoke Rapids, NC.

The FAA has determined that this regulation only involves an established body of technical regulations for which frequent and routine amendments are necessary to keep them operationally current. It, therefore, (1) Is not a “significant regulatory action” under Executive order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part, A, Subpart I, Section 40103. Under that section, the FAA is charged with prescribing regulations to assign the use of airspace necessary to ensure the safety of aircraft and the efficient use of airspace. This regulation is within the scope of that authority as it provides Class E airspace at Halifax County Airport, Roanoke Rapids, NC.

Lists of Subjects in 14 CFR Part 71

Airspace, Incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9S, Airspace Designations and Reporting Points, dated October 3, 2008, and effective October 31, 2008, is amended as follows:

Paragraph 6005 Class E Airspace Areas Extending Upward From 700 Feet or More Above the Surface of the Earth.

* * * * *

ASO NC E5 Roanoke Rapids, NC [AMENDED]

Halifax-Northampton Regional Airport, NC

(Lat. 36°19′47″ N., long. 77°38′07″ W.)

Halifax County Airport, NC

(Lat. 36°26′23″ N., long. 77°42′34″ W.)

That airspace extending upward from 700 feet above the surface of the Earth within a 6.5-mile radius of Halifax-Northampton Regional Airport and that airspace within a 7.0-mile radius of Halifax County Airport.

* * * * *

Issued in College Park, Georgia, on February 19, 2009.
Barry A. Knight,
Acting Manager, Operations Support Group, Eastern Service Center, Air Traffic Organization.

[FR Doc. E9-4074 Filed 2-25-09; 8:45 am]

BILLING CODE 4910-13-P